DEPARTMENT OF HOMELAND SECURITY

Federal Emergency Management Agency

44 CFR Part 64

[Docket ID FEMA-2011-0002; Internal Agency Docket No. FEMA-8187]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Connecticut:
Bozrah, Town of, New London County | 090094 | April 23, 1974, Emerg; September 30, 1981, Reg; July 18, 2011, Susp | July 18, 2011 | July 18, 2011.
Colchester, Town of, New London County | 090095 | May 21, 1975, Emerg; June 15, 1982, Reg; July 18, 2011, Susp | ......do | Do.
East Lyme, Town of, New London County | 090096 | October 23, 1973, Emerg; June 15, 1981, Reg; July 18, 2011, Susp | ......do | Do.
Franklin, Town of, New London County | 090154 | July 23, 1975, Emerg; December 1, 1981, Reg; July 18, 2011, Susp | ......do | Do.
Griswold, Town of, New London County | 090173 | March 15, 1976, Emerg; January 3, 1985, Reg; July 18, 2011, Susp | ......do | Do.
Groton, City of, New London County | 090126 | September 18, 1973, Emerg; May 15, 1980, Reg; July 18, 2011, Susp | ......do | Do.
Groton Long Point Association, New London County | 090167 | August 20, 1974, Emerg; March 18, 1980, Reg; July 18, 2011, Susp | ......do | Do.
Groton, Town of, New London County | 090097 | February 18, 1972, Emerg; April 15, 1977, Reg; July 18, 2011, Susp | ......do | Do.
Jewett City, Borough of, New London County | 090098 | March 15, 1976, Emerg; April 3, 1985, Reg; July 18, 2011, Susp | ......do | Do.
Lebanon, Town of, New London County | 090155 | May 27, 1976, Emerg; June 3, 1988, Reg; July 18, 2011, Susp | ......do | Do.
Ledyard, Town of, New London County | 090157 | August 22, 1978, Emerg; April 1, 1981, Reg; July 18, 2011, Susp | ......do | Do.
Lisbon, Town of, New London County | 090172 | January 12, 1976, Emerg; February 15, 1985, Reg; July 18, 2011, Susp | ......do | Do.
Lyme, Town of, New London County | 090127 | August 16, 1973, Emerg; January 3, 1979, Reg; July 18, 2011, Susp | ......do | Do.
Montville, Town of, New London County | 090099 | November 27, 1973, Emerg; July 2, 1980, Reg; July 18, 2011, Susp | ......do | Do.
New London, City of, New London County | 090100 | March 24, 1972, Emerg; May 2, 1977, Reg; July 18, 2011, Susp | ......do | Do.
Noank Fire District, New London County | 090129 | September 25, 1973, Emerg; September 17, 1980, Reg; July 18, 2011, Susp | ......do | Do.
North Stonington, Town of, New London County | 090101 | September 15, 1975, Emerg; April 3, 1985, Reg; July 18, 2011, Susp | ......do | Do.
Norwich, City of, New London County | 090102 | April 12, 1973, Emerg; June 15, 1978, Reg; July 18, 2011, Susp | ......do | Do.
Old Lyme, Town of, New London County | 090103 | April 10, 1973, Emerg; July 16, 1980, Reg; July 18, 2011, Susp | ......do | Do.
Preston, Town of, New London County | 090139 | August 21, 1975, Emerg; March 4, 1985, Reg; July 18, 2011, Susp | ......do | Do.
Salem, Town of, New London County | 090156 | July 1, 1982, Emerg; July 16, 1982, Reg; July 18, 2011, Susp | ......do | Do.
Sprague, Town of, New London County | 090105 | April 14, 1975, Emerg; January 3, 1985, Reg; July 18, 2011, Susp | ......do | Do.
Stonington, Borough of, New London County | 090193 | May 4, 1976, Emerg; November 1, 1979, Reg; July 18, 2011, Susp | ......do | Do.
Stonington, Town of, New London County | 090106 | May 28, 1975, Emerg; September 30, 1980, Reg; July 18, 2011, Susp | ......do | Do.
Voluntown, Town of, New London County | 090143 | July 17, 1975, Emerg; June 3, 1988, Reg; July 18, 2011, Susp | ......do | Do.
Waterford, Town of, New London County | 090107 | August 23, 1974, Emerg; February 4, 1981, Reg; July 18, 2011, Susp | ......do | Do.
Vermont:
Bolton, Town of, Chittenden County | 500308 | March 8, 1976, Emerg; April 1, 1981, Reg; July 18, 2011, Susp | ......do | Do.
Burlington, City of, Chittenden County | 500032 | April 5, 1973, Emerg; November 15, 1978, Reg; July 18, 2011, Susp | ......do | Do.
Charlotte, Town of, Chittenden County | 500309 | July 24, 1975, Emerg; September 3, 1980, Reg; July 18, 2011, Susp | ......do | Do.
Colchester, Town of, Chittenden County | 500033 | August 23, 1974, Emerg; March 1, 1982, Reg; July 18, 2011, Susp | ......do | Do.
Essex, Town of, Chittenden County | 500034 | July 8, 1975, Emerg; January 16, 1981, Reg; July 18, 2011, Susp | ......do | Do.
Hinesburg, Town of, Chittenden County | 500322 | March 5, 1976, Emerg; September 27, 1985, Reg; July 18, 2011, Susp | ......do | Do.
Jericho, Town of, Chittenden County | 500037 | July 16, 1975, Emerg; June 1, 1981, Reg; July 18, 2011, Susp | ......do | Do.
Milton, Town of, Chittenden County | 500038 | November 11, 1974, Emerg; January 6, 1982, Reg; July 18, 2011, Susp | ......do | Do.
Shelburne, Town of, Chittenden County | 500193 | December 16, 1975, Emerg; December 16, 1980, Reg; July 18, 2011, Susp | ......do | Do.
Underhill, Town of, Chittenden County | 500042 | June 10, 1975, Emerg; June 15, 1988, Reg; July 18, 2011, Susp | ......do | Do.
Westford, Town of, Chittenden County | 500203 | August 4, 2003, Emerg; January 1, 2010, Reg; July 18, 2011, Susp | ......do | Do.
Williston, Town of, Chittenden County | 500043 | July 17, 1975, Emerg; March 2, 1981, Reg; July 18, 2011, Susp | ......do | Do.
Winooski, City of, Chittenden County | 500044 | March 27, 1974, Emerg; August 1, 1978, Reg; July 18, 2011, Susp | ......do | Do.
Region III
Pennsylvania:
Abbott, Township of, Potter County | 421971 | April 21, 1975, Emerg; December 1, 1986, Reg; July 18, 2011, Susp | ......do | Do.
Allegany, Township of, Potter County | 421972 | June 9, 1975, Emerg; December 1, 1986, Reg; July 18, 2011, Susp | ......do | Do.
Austin, Borough of, Potter County | 420760 | July 9, 1975, Emerg; August 19, 1991, Reg; July 18, 2011, Susp | ......do | Do.
Bingham, Township of, Potter County | 421973 | April 25, 1979, Emerg; June 1, 1987, Reg; July 18, 2011, Susp | ......do | Do.
Clara, Township of, Potter County | 421974 | February 2, 1980, Emerg; June 1, 1987, Reg; July 18, 2011, Susp | ......do | Do.
Coudersport, Borough of, Potter County | 420761 | July 13, 1973, Emerg; August 15, 1979, Reg; July 18, 2011, Susp | ......do | Do.
Eulalia, Township of, Potter County | 421976 | August 7, 1974, Emerg; September 4, 1991, Reg; July 18, 2011, Susp | ......do | Do.
Galeton, Borough of, Potter County | 420762 | July 2, 1975, Emerg; December 1, 1986, Reg; July 18, 2011, Susp | ......do | Do.
Genesee, Township of, Potter County | 421977 | November 28, 1975, Emerg; June 1, 1987, Reg; July 18, 2011, Susp | ......do | Do.
Harrison, Township of, Potter County | 421978 | December 31, 1975, Emerg; June 1, 1987, Reg; July 18, 2011, Susp | ......do | Do.
Hebron, Township of, Potter County | 421979 | August 1, 1975, Emerg; December 1, 1986, Reg; July 18, 2011, Susp | ......do | Do.
Hector, Township of, Potter County | 421980 | June 9, 1975, Emerg; December 1, 1986, Reg; July 18, 2011, Susp | ......do | Do.
Homer, Township of, Potter County | 422501 | August 12, 1975, Emerg; September 24, 1984, Reg; July 18, 2011, Susp | ......do | Do.
Keating, Township of, Potter County | 421981 | August 5, 1980, Emerg; June 1, 1987, Reg; July 18, 2011, Susp | ......do | Do.
Oswayo, Borough of, Potter County | 420763 | December 26, 1975, Emerg; June 1, 1987, Reg; July 18, 2011, Susp | ......do | Do.
Oswayo, Township of, Potter County | 421982 | April 29, 1975, Emerg; August 1, 1987, Reg; July 18, 2011, Susp | ......do | Do.
Pike, Township of, Potter County | 421983 | July 11, 1975, Emerg; August 19, 1991, Reg; July 18, 2011, Susp | ......do | Do.
Pleasant Valley, Township of, Potter County | 421984 | May 31, 1979, Emerg; January 1, 1987, Reg; July 18, 2011, Susp | ......do | Do.
Portage, Township of, Potter County | 421985 | October 30, 1981, Emerg; December 1, 1986, Reg; July 18, 2011, Susp | ......do | Do.
Roulette, Township of, Potter County | 421986 | September 1, 1976, Emerg; August 19, 1991, Reg; July 18, 2011, Susp | ......do | Do.
Sharon, Township of, Potter County | 421987 | October 6, 1975, Emerg; August 19, 1991, Reg; July 18, 2011, Susp | ......do | Do.
Shinglehouse, Borough of, Potter County | 420764 | December 16, 1975, Emerg; August 5, 1991, Reg; July 18, 2011, Susp | ......do | Do.
Stewardson, Township of, Potter County | 421988 | August 25, 1975, Emerg; December 1, 1986, Reg; July 18, 2011, Susp | ......do | Do.
Summit, Township of, Potter County | 422502 | December 15, 1975, Emerg; September 24, 1984, Reg; July 18, 2011, Susp | ......do | Do.
Sweden, Township of, Potter County | 421989 | October 9, 1974, Emerg; August 19, 1991, Reg; July 18, 2011, Susp | ......do | Do.
Sylvania, Township of, Potter County | 421990 | March 18, 1977, Emerg; January 1, 1987, Reg; July 18, 2011, Susp | ......do | Do.
Ulysses, Borough of, Potter County | 422503 | June 6, 1975, Emerg; January 1, 1987, Reg; July 18, 2011, Susp | ......do | Do.
Ulysses, Township of, Potter County | 421991 | January 13, 1975, Emerg; June 1, 1987, Reg; July 18, 2011, Susp | ......do | Do.
West Branch, Township of, Potter County | 421992 | July 17, 1974, Emerg; December 1, 1986, Reg; July 18, 2011, Susp | ......do | Do.
Wharton, Township of, Potter County | 421993 | December 17, 1975, Emerg; December 1, 1986, Reg; July 18, 2011, Susp | ......do | Do.
Virginia:
Augusta County, Unincorporated Areas | 510013 | July 24, 1974, Emerg; May 17, 1990, Reg; July 18, 2011, Susp | ......do | Do.
Waynesboro, City of, Independent City | 515532 | June 19, 1970, Emerg; July 2, 1971, Reg; July 18, 2011, Susp | ......do | Do.
Region IV
Alabama:
Alexander City, City of, Tallapoosa County | 010210 | December 17, 1975, Emerg; September 27, 1985, Reg; July 18, 2011, Susp | ......do | Do.
Camp Hill, Town of, Tallapoosa County | 010374 | June 3, 2009, Emerg; N/A, Reg; July 18, 2011, Susp | ......do | Do.
Coosada, Town of, Elmore County | 015012 | September 17, 1986, Emerg; September 17, 1986, Reg; July 18, 2011, Susp | ......do | Do.
Dadeville, City of, Tallapoosa County | 010211 | May 13, 1975, Emerg; September 18, 1985, Reg; July 18, 2011, Susp | ......do | Do.
Daviston, Town of, Tallapoosa County | 010380 | May 21, 2009, Emerg; N/A, Reg; July 18, 2011, Susp | ......do | Do.
Elmore County, Unincorporated Areas | 010406 | January 16, 1980, Emerg; February 19, 1986, Reg; July 18, 2011, Susp | ......do | Do.
Millbrook, City of, Elmore and Autauga Counties | 010370 | October 18, 1979, Emerg; August 15, 1984, Reg; July 18, 2011, Susp | ......do | Do.
New Site, Town of, Tallapoosa County | 010395 | January 30, 2008, Emerg; N/A, Reg; July 18, 2011, Susp | ......do | Do.
Prattville, City of, Elmore and Autauga Counties | 010002 | June 18, 1974, Emerg; August 15, 1978, Reg; July 18, 2011, Susp | ......do | Do.
Tallapoosa County, Unincorporated Areas | 010326 | N/A, Emerg; September 15, 2005, Reg; July 18, 2011, Susp | ......do | Do.
Tallassee, City of, Elmore County | 010069 | September 5, 1975, Emerg; September 15, 1983, Reg; July 18, 2011, Susp | ......do | Do.
Wetumpka, City of, Elmore County | 010070 | March 11, 1975, Emerg; January 3, 1986, Reg; July 18, 2011, Susp | ......do | Do.
Florida: St. Johns County, Unincorporated Areas | 125147 | September 25, 1970, Emerg; July 6, 1973, Reg; July 18, 2011, Susp | ......do | Do.
Georgia: Augusta-Richmond, City of, Richmond County | 130158 | November 23, 1973, Emerg; March 4, 1980, Reg; July 18, 2011, Susp | ......do | Do.
Kentucky:
Bonnieville, City of, Hart County | 210108 | October 9, 1974, Emerg; June 17, 1986, Reg; July 18, 2011, Susp | ......do | Do.
Hart County, Unincorporated Areas | 210257 | April 21, 1989, Emerg; July 1, 1991, Reg; July 18, 2011, Susp | ......do | Do.
Meade County, Unincorporated Areas | 210169 | N/A, Emerg; May 31, 1995, Reg; July 18, 2011, Susp | ......do | Do.
Mississippi:
Booneville, City of, Prentiss County | 280135 | June 2, 1976, Emerg; July 3, 1986, Reg; July 18, 2011, Susp | ......do | Do.
Columbia, City of, Marion County | 280111 | February 6, 1975, Emerg; September 28, 1979, Reg; July 18, 2011, Susp | ......do | Do.
Marion County, Unincorporated Areas | 280230 | March 18, 1975, Emerg; September 28, 1979, Reg; July 18, 2011, Susp | ......do | Do.
Prentiss County, Unincorporated Areas | 280279 | November 14, 2007, Emerg; N/A, Reg; July 18, 2011, Susp | ......do | Do.
State Line, Town of, Wayne County | 280059 | April 23, 1976, Emerg; August 19, 1985, Reg; July 18, 2011, Susp | ......do | Do.
Wayne County, Unincorporated Areas | 280238 | December 3, 1979, Emerg; August 16, 1988, Reg; July 18, 2011, Susp | ......do | Do.
Region V
Illinois:
Ashmore, Village of, Coles County | 171088 | June 4, 2009, Emerg; N/A, Reg; July 18, 2011, Susp | ......do | Do.
Bethany, Village of, Moultrie County | 170521 | May 16, 1975, Emerg; January 18, 1980, Reg; July 18, 2011, Susp | ......do | Do.
Charleston, City of, Coles County | 170052 | July 7, 1975, Emerg; September 28, 1984, Reg; July 18, 2011, Susp | ......do | Do.
Coles County, Unincorporated Areas | 170986 | N/A, Emerg; May 13, 2004, Reg; July 18, 2011, Susp | ......do | Do.
Dalton City, Village of, Moultrie County | 170522 | May 27, 1975, Emerg; June 30, 1976, Reg; July 18, 2011, Susp | ......do | Do.
Dalzell, Village of, LaSalle County | 170851 | February 20, 1976, Emerg; September 24, 1984, Reg; July 18, 2011, Susp | ......do | Do.
Earlville, City of, LaSalle County | 170950 | N/A, Emerg; February 4, 2002, Reg; July 18, 2011, Susp | ......do | Do.
LaSalle, City of, LaSalle County | 170401 | January 16, 1975, Emerg; March 18, 1985, Reg; July 18, 2011, Susp | ......do | Do.
LaSalle County, Unincorporated Areas | 170400 | December 16, 1988, Emerg; September 7, 2001, Reg; July 18, 2011, Susp | ......do | Do.
Lawrenceville, City of, Lawrence County | 170411 | July 29, 1975, Emerg; July 16, 1984, Reg; July 18, 2011, Susp | ......do | Do.
Lovington, Village of, Moultrie County | 170523 | December 23, 1974, Emerg; September 18, 1985, Reg; July 18, 2011, Susp | ......do | Do.
Marseilles, City of, LaSalle County | 170402 | N/A, Emerg; April 8, 2008, Reg; July 18, 2011, Susp | ......do | Do.
Mendota, City of, LaSalle County | 170403 | November 2, 1974, Emerg; December 4, 1979, Reg; July 18, 2011, Susp | ......do | Do.
Millington, Village of, LaSalle County | 170343 | May 28, 1975, Emerg; June 1, 1982, Reg; July 18, 2011, Susp | ......do | Do.
Moultrie County, Unincorporated Areas | 170998 | January 31, 1984, Emerg; August 5, 1985, Reg; July 18, 2011, Susp | ......do | Do.
North Utica, Village of, LaSalle County | 170822 | December 2, 1976, Emerg; December 18, 1984, Reg; July 18, 2011, Susp | ......do | Do.
Oakland, City of, Coles County | 170861 | April 5, 1976, Emerg; December 7, 1984, Reg; July 18, 2011, Susp | ......do | Do.
Oglesby, City of, LaSalle County | 170404 | July 2, 1975, Emerg; September 4, 1985, Reg; July 18, 2011, Susp | ......do | Do.
Ottawa, City of, LaSalle County | 170405 | April 23, 1975, Emerg; September 4, 1985, Reg; July 18, 2011, Susp | ......do | Do.
Peru, City of, LaSalle County | 170406 | March 21, 1975, Emerg; August 19, 1985, Reg; July 18, 2011, Susp | ......do | Do.
Seneca, Village of, LaSalle County | 170407 | May 9, 1975, Emerg; February 1, 1985, Reg; July 18, 2011, Susp | ......do | Do.
Sheridan, Village of, LaSalle County | 170802 | November 28, 1975, Emerg; August 10, 1979, Reg; July 18, 2011, Susp | ......do | Do.
Somonauk, Village of, LaSalle County | 170190 | N/A, Emerg; April 13, 2009, Reg; July 18, 2011, Susp | ......do | Do.
Streator, City of, LaSalle County | 170408 | December 1, 1972, Emerg; September 18, 1986, Reg; July 18, 2011, Susp | ......do | Do.
Sumner, City of, Lawrence County | 170412 | March 11, 1976, Emerg; July 16, 1984, Reg; July 18, 2011, Susp | ......do | Do.
Sullivan, City of, Moultrie County | 170524 | June 20, 1975, Emerg; September 18, 1985, Reg; July 18, 2011, Susp | ......do | Do.
Tonica, Village of, LaSalle County | 171069 | N/A, Emerg; April 2, 2008, Reg; July 18, 2011, Susp | ......do | Do.
Wenona, City of, LaSalle County | 170462 | August 4, 1975, Emerg; December 2, 1988, Reg; July 18, 2011, Susp | ......do | Do.
Ohio:
Darke County, Unincorporated Areas | 390137 | February 13, 1976, Emerg; September 29, 1989, Reg; July 18, 2011, Susp | ......do | Do.
Greenville, City of, Darke County | 390139 | April 16, 1975, Emerg; July 18, 1985, Reg; July 18, 2011, Susp | ......do | Do.
New Madison, Village of, Darke County | 390140 | June 9, 1975, Emerg; July 6, 1984, Reg; July 18, 2011, Susp | ......do | Do.
Region VI
Oklahoma:
Bowlegs, Town of, Seminole County | 400468 | May 20, 1980, Emerg; August 19, 1985, Reg; July 18, 2011, Susp | ......do | Do.
Sasakawa, Town of, Seminole County | 400191 | May 5, 1976, Emerg; March 1, 1987, Reg; July 18, 2011, Susp | ......do | Do.
Seminole, City of, Seminole County | 400192 | May 20, 1974, Emerg; November 17, 1982, Reg; July 18, 2011, Susp | ......do | Do.
Wewoka, City of, Seminole County | 400193 | March 6, 1975, Emerg; July 16, 1980, Reg; July 18, 2011, Susp | ......do | Do.
Texas:
Calvert, City of, Robertson County | 480989 | August 12, 1978, Emerg; July 6, 1982, Reg; July 18, 2011, Susp | ......do | Do.
Franklin, Town of, Robertson County | 480990 | July 21, 1977, Emerg; July 6, 1982, Reg; July 18, 2011, Susp | ......do | Do.
Graham, City of, Young County | 480685 | November 7, 1974, Emerg; November 4, 1981, Reg; July 18, 2011, Susp | ......do | Do.
Hearne, City of, Robertson County | 480542 | June 12, 1974, Emerg; August 19, 1986, Reg; July 18, 2011, Susp | ......do | Do.
Newcastle, City of, Young County | 481058 | N/A, Emerg; March 10, 2010, Reg; July 18, 2011, Susp | ......do | Do.
Robertson County, Unincorporated Areas | 480988 | March 27, 1997, Emerg; August 1, 2008, Reg; July 18, 2011, Susp | ......do | Do.
Region VII
Iowa:
Atalissa, City of, Muscatine County | 190211 | October 22, 1975, Emerg; June 30, 1980, Reg; July 18, 2011, Susp | ......do | Do.
Black Hawk County, Unincorporated Areas | 190535 | October 20, 1975, Emerg; November 17, 1982, Reg; July 18, 2011, Susp | ......do | Do.
Camanche, City of, Clinton County | 190086 | February 9, 1973, Emerg; December 18, 1984, Reg; July 18, 2011, Susp | ......do | Do.
Cedar Falls, City of, Black Hawk County | 190017 | July 23, 1971, Emerg; February 1, 1985, Reg; July 18, 2011, Susp | ......do | Do.
Clinton County, Unincorporated Areas | 190859 | July 2, 1975, Emerg; September 1, 1990, Reg; July 18, 2011, Susp | ......do | Do.
Columbus Junction, City of, Louisa County | 190307 | July 29, 1976, Emerg; February 6, 1991, Reg; July 18, 2011, Susp | ......do | Do.
DeWitt, City of, Clinton County | 190568 | N/A, Emerg; October 27, 1995, Reg; July 18, 2011, Susp | ......do | Do.
Dunkerton, City of, Black Hawk County | 190018 | April 3, 1975, Emerg; January 16, 1980, Reg; July 18, 2011, Susp | ......do | Do.
Elk Run Heights, City of, Black Hawk County | 190019 | June 12, 1974, Emerg; August 1, 1983, Reg; July 18, 2011, Susp | ......do | Do.
Evansdale, City of, Black Hawk County | 190020 | May 25, 1973, Emerg; November 2, 1977, Reg; July 18, 2011, Susp | ......do | Do.
Fredonia, City of, Louisa County | 190308 | N/A, Emerg; June 4, 1993, Reg; July 18, 2011, Susp | ......do | Do.
Fruitland, City of, Muscatine County | 190212 | June 6, 1975, Emerg; June 10, 1980, Reg; July 18, 2011, Susp | ......do | Do.
Gilbertville, City of, Black Hawk County | 190021 | April 17, 1975, Emerg; August 1, 1978, Reg; July 18, 2011, Susp | ......do | Do.
Hudson, City of, Black Hawk County | 190022 | August 1, 1975, Emerg; January 16, 1980, Reg; July 18, 2011, Susp | ......do | Do.
La Porte City, City of, Black Hawk County | 190309 | February 2, 1976, Emerg; January 2, 1981, Reg; July 18, 2011, Susp | ......do | Do.
Letts, City of, Louisa County | 190311 | N/A, Emerg; September 2, 1993, Reg; July 18, 2011, Susp | ......do | Do.
Louisa County, Unincorporated Areas | 190193 | October 16, 1974, Emerg; June 1, 1987, Reg; July 18, 2011, Susp | ......do | Do.
Muscatine, City of, Muscatine County | 190213 | January 15, 1974, Emerg; January 5, 1978, Reg; July 18, 2011, Susp | ......do | Do.
Muscatine County, Unincorporated Areas | 190836 | April 8, 1975, Emerg; October 17, 1986, Reg; July 18, 2011, Susp | ......do | Do.
Nichols, City of, Muscatine County | 190214 | June 6, 1975, Emerg; October 17, 1986, Reg; July 18, 2011, Susp | ......do | Do.
Oakville, City of, Louisa County | 190313 | August 5, 1975, Emerg; August 1, 1986, Reg; July 18, 2011, Susp | ......do | Do.
Raymond, City of, Black Hawk County | 190024 | July 2, 1975, Emerg; July 11, 1978, Reg; July 18, 2011, Susp | ......do | Do.
Wapello, City of, Louisa County | 190194 | June 4, 1976, Emerg; September 1, 1986, Reg; July 18, 2011, Susp | ......do | Do.
Waterloo, City of, Black Hawk County | 190025 | May 7, 1971, Emerg; July 3, 1985, Reg; July 18, 2011, Susp | ......do | Do.
Welton, City of, Clinton County | 190089 | October 25, 1977, Emerg; August 5, 1985, Reg; July 18, 2011, Susp | ......do | Do.
West Liberty, City of, Muscatine County | 190215 | May 5, 1975, Emerg; October 17, 1986, Reg; July 18, 2011, Susp | ......do | Do.
Wilton, City of, Muscatine County | 190686 | August 30, 1990, Emerg; July 1, 1991, Reg; July 18, 2011, Susp | ......do | Do.
Missouri:
Bland, City of, Gasconade County | 290139 | February 24, 1977, Emerg; August 24, 1984, Reg; July 18, 2011, Susp | ......do | Do.
Gasconade, City of, Gasconade County | 290140 | June 27, 1975, Emerg; December 18, 1984, Reg; July 18, 2011, Susp | ......do | Do.
Hermann, City of, Gasconade County | 290141 | August 13, 1971, Emerg; March 5, 1976, Reg; July 18, 2011, Susp | ......do | Do.
Owensville, City of, Gasconade County | 290143 | August 1, 1975, Emerg; June 3, 1978, Reg; July 18, 2011, Susp | ......do | Do.
Region VIII
North Dakota:
Velva, City of, McHenry County | 380051 | March 28, 1975, Emerg; August 15, 1977, Reg; July 18, 2011, Susp | ......do | Do.
Velva, Township of, McHenry County | 380310 | March 31, 1976, Emerg; September 18, 1987, Reg; July 18, 2011, Susp | ......do | Do.
Villard, Township of, McHenry County | 380317 | March 31, 1977, Emerg; September 18, 1987, Reg; July 18, 2011, Susp | ......do | Do.
*Do = Ditto.
Code for reading third column: Emerg.—Emergency; Reg.—Regular; Susp.—Suspension.

Dated: June 27, 2011.
Sandra K. Knight,
Deputy Federal Insurance and Mitigation Administrator, Mitigation.

[FR Doc. 2011-17032 Filed 7-6-11; 8:45 am]

BILLING CODE 9110-12-P